DEPARTMENT OF THE TREASURY

Office of Foreign Assets Control

Unblocking of Specially Designated Nationals and Blocked Persons Pursuant to Executive Order 13348

AGENCY: Office of Foreign Assets Control, Treasury.

ACTION: Notice.

SUMMARY: The Department of the Treasury's Office of Foreign Assets Control (“OFAC”) is publishing the name of 12 individuals whose property and interests in property have been unblocked pursuant to Executive Order 13348 of July 22, 2004, “Blocking Property of Certain Persons and Prohibiting the Importation of Certain Goods from Liberia.”

DATES: The unblocking and removal from the list of Specially Designated Nationals and Blocked Persons by the Secretary of the Treasury of the 12 individuals identified in this notice whose property and interests in property were blocked pursuant to Executive Order 13348 of July 22, 2004, is effective April 2, 2013.

FOR FURTHER INFORMATION CONTACT: Assistant Director, Compliance Outreach & Implementation, Office of Foreign Assets Control, Department of the Treasury, 1500 Pennsylvania Avenue NW (Treasury Annex) Washington, DC 20220, Tel.: 202/622-2490.

SUPPLEMENTARY INFORMATION:

Electronic and Facsimile Availability

Information about this document and additional information concerning OFAC are available from OFAC's Web site (www.treas.gov/ofac) or via facsimile through a 24-hour fax-on-demand service, Tel.: 202/622-0077.

Background

On July 22, 2004, President Bush issued Executive Order 13348 (“the order” or “EO 13348”), finding that the actions and policies of former Liberian President Charles Taylor and other persons, in particular their unlawful depletion of Liberian resources and their removal from Liberia, and secreting of Liberian funds and property, undermined Liberia's transition to democracy, the orderly development of Liberia's political, administrative, and economic institutions and resources, and fueled and exacerbated other conflicts throughout West Africa. The President found that the actions, policies, and circumstances described above constituted an unusual and extraordinary threat to the foreign policy of the United States and declared a national emergency to deal with that threat.

The order included 28 persons in the Annex, which resulted in the blocking of all property or interests in property of these persons that was or thereafter came within the United States or the possession or control of U.S. persons. The order authorizes the Secretary of the Treasury, in consultation with the Secretary of State, to designate additional persons or entities determined to meet certain criteria set forth in EO 13348.

The order also authorizes the Secretary of the Treasury, in consultation with the Secretary of State, to determine that circumstances no longer warrant the inclusion of a person in the Annex to EO 13348 and to unblock any property or interests in property that had been blocked as a result of the person's inclusion in the Annex.

On April 2, 2013, the Deputy Director of OFAC, on behalf of the Director of OFAC, removed from the list of Specially Designated Nationals and Blocked Persons the twelve individuals listed below, whose property and interests in property were blocked pursuant to the order.

1. ALLEN, Cyril; DOB 26 Jul 1952; Former Chairman, National Patriotic Party of Liberia; nationality Liberia; alt. nationality Nigerian (individual) [LIBERIA].

2. COOPER, Randolph; DOB 28 Oct 1950; Former Managing Director, Roberts International Airport (individual) [LIBERIA].

3. DUNBAR, Belle Y.; DOB 27 Oct 1967; alt. DOB 27 Oct 1963; Former Managing Director, Liberian Petroleum Refining Company (individual) [LIBERIA].

4. GIBSON, Myrtle; DOB 03 Nov 1952; Former Liberian Senator; advisor to former President of Liberia Charles Taylor (individual) [LIBERIA].

5. GOODRIDGE, Reginald B. (a.k.a. GOODRICH, Reginald B. (Senior)); DOB 11 Nov 1952; Sr.; Former Minister for Culture, Information, Tourism of Liberia (individual) [LIBERIA].

6. MININ, Leonid (a.k.a. BLAVSTEIN, Leonid; a.k.a. BLUVSHTEIN, Leonid; a.k.a. BLYAFSHTEIN, Leonid; a.k.a. BLYUFSHTEIN, Leonid; a.k.a. BLYUVSHTEIN, Leonid; a.k.a. BRESLAN, Wolf; a.k.a. BRESLAN, Wulf; a.k.a. KERLER, Vladimir Abramovich; a.k.a. OSOLS, Igor; a.k.a. POPELA, Vladimir Abramovich; a.k.a. POPELAVESKI, Vladimir Abramovich; a.k.a. POPELO, Vladimir Abramovich; a.k.a. POPELOVESKI, Vladimir Abramovich; a.k.a. POPILOVESKI, Vladimir Abramovich); DOB 14 Dec 1947; alt. DOB 18 Oct 1946; nationality Ukraine; Passport 5280007248D (Germany); alt. Passport 18106739D (Germany); alt. Passport 6019832 (Israel) issued 06 Nov 1994 expires 05 Nov 1999; alt. Passport 9001689 (Israel) issued 23 Jan 1997 expires 22 Jan 1999; alt. Passport KI0861177 (Russia); alt. Passport 65118 (Bolivia); alt. Passport 90109052 (Israel) issued 26 Nov 1997; Owner, Exotic Tropical Timber Enterprise (individual) [LIBERIA].

7. NAYDO, Valeriy (a.k.a. NAIDO, Valerii), c/o CET AVIATION, P.O. Box 932-20C, Ajman, United Arab Emirates; Equatorial Guinea; DOB 10 Aug 1957; citizen Ukraine; Passport AC251295 (Ukraine); alt. Passport KC024178 (Ukraine) (individual) [LIBERIA].

8. REEVES-TAYLOR, Agnes (a.k.a. TAYLOR, Agnes Reeves; a.k.a. “REEVES-TAYLOR”); DOB 27 Sep 1965; nationality Liberia; Ex-wife of former President of Liberia Charles Taylor; ex-Permanent Representative of Liberia to the International Maritime Organization (individual) [LIBERIA].

9. SALAMI, Mohamed Ahmad (a.k.a. SALAME, Mohamed Ahmad); DOB 22 Sep 1961; nationality Lebanon; Owner, Mohamed Group of Companies; former President of Liberia Charles Taylor's informal diplomatic representative (individual) [LIBERIA].

10. SHAW, Emmanuel (II); DOB 26 Jul 1946; alt. DOB 26 Jul 1956; alt. DOB 29 Jul 1956; Advisor to former President of Liberia Charles Taylor (individual) [LIBERIA].

11. TAYLOR, Tupee Enid; DOB 17 Dec 1962; Ex-wife of former President of Liberia Charles Taylor (individual) [LIBERIA].

12. TAYLOR, Jewell Howard; DOB 17 Jan 1963; Wife of former President of Liberia Charles Taylor (individual) [LIBERIA].

Dated: April 2, 2013.
Barbara C. Hammerle,
Acting Director, Office of Foreign Assets Control.

[FR Doc. 2013-08142 Filed 4-5-13; 8:45 am]

BILLING CODE P